FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 8, 2020.

A. Federal Reserve Bank of St. Louis (David L. Hubbard, Senior Manager) P.O. Box 442, St. Louis, Missouri 63166-2034. Comments can also be sent electronically to Comments.applications@stls.frb.org:

1. The Combs Family Trust dated March 12, 2015, Kendall L. Combs and Patricia A. Combs, as co-trustees, both of Hollister, Missouri; Randall G. Combs or Beckie D. Combs, Alton, Missouri; the Michael D. Combs and Sandra L. Combs Family Revocable Trust dated January 7, 2016, Michael D. Combs and Sandra L. Combs, as co-trustees, both of Walnut Shade, Missouri; to acquire and to retain voting shares of Alton Bancshares, Inc., and thereby indirectly acquire and retain voting shares of Alton Bank, both of Alton, Missouri, and First Community Bank of The Ozarks, Branson, Missouri.

Board of Governors of the Federal Reserve System, March 19, 2020.
Yao-Chin Chao,
Assistant Secretary of the Board.

[FR Doc. 2020-06195 Filed 3-24-20; 8:45 am]

BILLING CODE 6210-01-P